DEPARTMENT OF COMMERCE

International Trade Administration

[A-475-818, C-475-819, A-489-805, C-489-806]

Certain Pasta From Italy and Turkey: Continuation of the Antidumping Duty and Countervailing Duty Orders

AGENCY: Enforcement and Compliance, International Trade Administration, Department of Commerce.

SUMMARY: As a result of the determinations by the Department of Commerce (Commerce) and the International Trade Commission (ITC) that revocation of the antidumping duty (AD) and countervailing duty (CVD) orders on certain pasta (pasta) from Italy and Turkey would be likely to lead to a continuation or recurrence of dumping, countervailable subsidies, and material injury to an industry in the United States, Commerce is publishing a notice of continuation of the AD and CVD orders.

DATES: Applicable April 17, 2019.

FOR FURTHER INFORMATION CONTACT: Daniel Deku or Scott Hoefke (AD), AD/CVD Operations, Office VI, Enforcement and Compliance, International Trade Administration, U.S. Department of Commerce, 1401 Constitution Avenue NW, Washington, DC 20230; telephone: 202-482-5075 or 202-482-4947, respectively. Mary Kolberg or Aimee Phelan (CVD), AD/CVD Operations, Office I, Enforcement and Compliance, International Trade Administration, U.S. Department of Commerce, 1401 Constitution Avenue NW, Washington, DC 20230; telephone: 202-482-1785 or 202-482-0697, respectively.

SUPPLEMENTARY INFORMATION:

Background

On August 1, 2018, Commerce published the notice of initiation of the fourth sunset reviews of the Orders ¹ on pasta from Italy and Turkey, pursuant to section 751(c) of the Tariff Act of 1930, as amended (the Act).² As a result of its reviews, Commerce determined that revocation of the Orders on pasta from Italy and Turkey would likely lead to the continuation or recurrence of dumping and countervailable subsidies.³ Commerce, therefore, notified the ITC of the magnitude of the margins of dumping and the net countervailable subsidy rates likely to prevail were the Orders revoked.⁴

¹ See Notice of Antidumping Duty Order and Amended Final Determination of Sales at Less Than Fair Value: Certain Pasta from Turkey, 61 FR 38545 (July 24, 1996) (Turkey AD Order); see also Notice of Antidumping Duty Order and Amended Final Determination of Sales at Less Than Fair Value: Certain Pasta from Italy, 61 FR 38547 (July 24, 1996) (Italy AD Order); Notice of Countervailing Duty Order and Amended Final Affirmative Countervailing Duty Determination: Certain Pasta from Italy, 61 FR 38544 (July 24, 1996) (Italy CVD Order); Notice of Countervailing Duty Order: Certain Pasta from Turkey, 61 FR 38546 (July 24, 1996) (Turkey CVD Order) (collectively, the Orders).

² See Initiation of Five-Year (Sunset) Reviews, 83 FR 37463 (August 1, 2018) (Sunset Initiation).

³ See Certain Pasta from Italy and Turkey: Final Results of Expedited Fourth Sunset Reviews of the Antidumping Duty Orders, 83 FR 62840, (December 6, 2018) and accompanying Issues and Decision Memorandum (Pasta 2018 AD Sunset Final); see also Certain Pasta from Italy: Final Results of the Expedited Fourth Sunset Review of the Countervailing Duty Order, 83 FR 62838 (December 6, 2018) and accompanying Issues and Decision Memorandum (Pasta Italy CVD 2018 Sunset Final); Certain Pasta from Turkey: Final Results of the Expedited Fourth Sunset Review of the Countervailing Duty Order, 83 FR 62841 (December 6, 2018) and accompanying Issues and Decision Memorandum (Pasta Turkey CVD 2018 Sunset Final).

⁴ Id.

On April 10, 2019, the ITC published its determinations, pursuant to sections 751(c) and 752 of the Act, that revocation of the Orders on pasta from Italy and Turkey would likely lead to continuation or recurrence of material injury to an industry in the United States within a reasonably foreseeable time.⁵

⁵ See Certain Pasta from Italy and Turkey, 84 FR 14398 (April 10, 2019).

Scope of the Orders

Italy (A-475-818, C-475-819)

The merchandise subject to the order is pasta. The product is currently classified under items 1901.90.90.95 and 1902.19.20 of the Harmonized Tariff Schedule of the United States (HTSUS). Although the HTSUS numbers are provided for convenience and customs purposes, the written product description available in Italy AD Order and Italy CVD Order remains dispositive.⁶

⁶ See Pasta 2018 AD Sunset Final; see also Pasta Italy CVD 2018 Sunset Final.

Turkey (A-489-805, C-489-806)

The merchandise subject to the order is pasta. The product is currently classified under items 1902.19.20 of the Harmonized Tariff Schedule of the United States (HTSUS). Although the HTSUS numbers are provided for convenience and customs purposes, the written product description available in Turkey AD Order and Turkey CVD Order remains dispositive.⁷

⁷ See Pasta 2018 AD Sunset Final; see also Pasta Turkey CVD 2018 Sunset Final.

Continuation of the Orders

As a result of the determinations by Commerce and the ITC that revocation of the Orders would likely lead to a continuation or a recurrence of dumping, a continuation or recurrence of countervailable subsidies, and a continuation or recurrence of material injury to an industry in the United States, pursuant to section 751(d)(2) of the Act and 19 CFR 351.218(a), Commerce hereby orders the continuation of the Orders on pasta from Italy and Turkey. U.S. Customs and Border Protection will continue to collect AD and CVD cash deposits at the rates in effect at the time of entry for all imports of subject merchandise.

The effective date of the continuation of the Orders will be the date of publication in the Federal Register of this notice of continuation. Pursuant to section 751(c)(2) of the Act, Commerce intends to initiate the next five-year reviews of these orders not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

These sunset reviews and notice are in accordance with sections 751(c), 752, and published pursuant to 777(i)(1) of the Act and 19 CFR 351.218(f)(4).

Dated: April 11, 2019.
Jeffrey I. Kessler,
Assistant Secretary for Enforcement and Compliance.

[FR Doc. 2019-07807 Filed 4-16-19; 8:45 am]

BILLING CODE 3510-DS-P